U.S. AGENCY FOR GLOBAL MEDIA

2 CFR Chapter XIX

22 CFR Part 518

[3112-AA05]

Uniform Administrative Requirements, Cost Principles, and Audit Requirements for Federal Awards

AGENCY: U.S. Agency for Global Media

ACTION: Final rule.

SUMMARY: In this document, the U.S. Agency for Global Media (USAGM or the Agency) adopts the Uniform Administrative Requirements, Cost Principles, and Audit Requirements for Federal Awards (Uniform Guidance) initially set forth as guidance by the Office of Management and Budget (OMB) and published by OMB on December 26, 2013, and updated on April 4, 2024. This rule is necessary in order to incorporate into regulation and thus bring into effect the Uniform Guidance as required by OMB. Implementation of this guidance will reduce administrative burden and risk of waste, fraud, and abuse related to the Federal financial assistance awarded each year by the Agency. To avoid confusion, we additionally supersede existing agency regulations related to this same subject matter.

DATES: This regulation is effective December 11, 2024.

FOR FURTHER INFORMATION CONTACT: For general information, please contact Trina Mixson, Acting Chief Financial Officer, Office of the Chief Financial Officer, U.S. Agency for Global Media, 330 Independence Ave. SW, Washington, DC 20237; 202-322-9320; tmixson@usagm.gov.

SUPPLEMENTARY INFORMATION:

I. Discussion

USAGM is an independent establishment of the federal government that exercises authority over non-military United States government broadcasting. USAGM oversees two federal entities—Voice of America and the Office of Cuba Broadcasting—and five grantee non-profit organizations—Radio Free Europe/Radio Liberty, Radio Free Asia, the Middle East Broadcasting Networks, the Open Technology Fund, and the Frontline Media Fund. Its broadcasting networks reach a cumulative weekly worldwide audience of more than 400 million people.

On December 19, 2014, OMB and more than 30 other federal agencies issued an interim final rule that implemented the final guidance on Uniform Administrative Requirements, Cost Principles, and Audit Requirements for Federal Awards (Uniform Guidance). In that interim final rule, Federal awarding agencies joined together to implement the Uniform Guidance in their respective chapters of title 2 of the CFR, and, where approved by the OMB, implemented any exceptions to the Uniform Guidance by including the relevant language in their regulations. The intent of this effort was to simultaneously reduce administrative burden and the risk of waste, fraud, and abuse while delivering better performance. Implementation of the Uniform Guidance became effective on December 26, 2014 (79 FR 75867, December 19, 2014).

On April 4, 2024, OMB revised that guidance to incorporate recent OMB policy priorities related to Federal financing assistance and to reduce agency and recipient burden. The updated guidance seeks to improve Federal financial assistance management, transparency, and oversight through more accessible and readily comprehensible guidance and clarifies sections of the prior version of the guidance.

Although USAGM's predecessor agency, the Broadcasting Board of Governors, did not implement the guidance when initially codified in 2014, for the past several years USAGM has incorporated the guidance in its Federal financial assistance agreements. USAGM now takes the opportunity of the recent updates to join the more than 30 federal agencies that have already done so. USAGM does so to bring its federal assistance processes in line with best practices suggested by OMB, streamline its financial assistance processes, and increase transparency. To avoid confusion, the agency additionally supersedes existing agency regulations relating to the same subject matter.

II. Justification To Issue Final Rule

Under the Administrative Procedure Act, a federal agency may issue a final rule without first issuing a notice of proposed rulemaking (NPRM) in several circumstances. Two apply to this rule. First, an agency need not issue a proposed rulemaking to a matter relating to agency management or personnel or to public property, loans, grants, benefits, or contracts. This rule qualifies as a rule of agency procedure and practice related to the issuance and monitoring of federal awards. The Administrative Procedure Act therefore excepts this rule from traditional notice and comment periods.

Second, an agency must first find that issuing an NPRM would be impractical, unnecessary, or contrary to the public interest. As stated above, this rule incorporates—in full and without change—the Uniform Guidance developed by OMB. OMB initially issued the guidance only after considering public comment received following both an Advanced Notice of Public Guidance (available at www.regulations.gov under docket number OMB-2012-0002) and Notice of Proposed Guidance (available at www.regulations.gov under docket number OMB-2013-0001). Combined, those two dockets received more than 650 total comments. The public enjoyed similar opportunity to comment on the guidance more recently. OMB provided multiple opportunities for public comment when issuing the 2024 revisions to that guidance, including a Request for Information (available at www.regulations.gov under docket number OMB-2023-0007) and Notice of Proposed Guidance (available at www.regulations.gov under docket number OMB-2023-0017). Combined, those two dockets received more than 1150 total comments. Any NPRM issued by USAGM would be redundant of previous efforts by OMB, and is therefore unnecessary.

III. Procedural Matters

a. Paperwork Reduction Act

The Paperwork Reduction Act requires that agencies obtain OMB approval before conducting a collection of information from the public. Any information collected under the regulations proposed does not to constitute a collection of information for the purposes of the Paperwork Reduction Act, 44 U.S.C. 3501 et seq.

b. Executive Order 12866 (Regulatory Planning and Review), Executive Order 13563 (Improving Regulation and Regulatory Review), and Executive Order 14094 (Modernizing Regulatory Review)

Executive Orders 12866, 13563, and 14094 direct agencies to assess all costs and benefits of available regulatory alternatives, and, if regulation is necessary, to select regulatory approaches that maximize net benefits (including potential economic, environmental, public health and safety effects, distributive impacts, and equity). OMB's Office of Information and Regulatory Affairs (OIRA) designated the implementation of the Uniform Guidance by OMB and more than 25 other agencies to be not significant in 2014. USAGM similar concludes that its implementation is not significant and therefore is not subject to mandatory prior review by the OIRA pursuant to Executive Orders 12866, 13563, or 14094.

c. Unfunded Mandates Reform Act of 1995

The Unfunded Mandates Reform Act requires that agencies prepare a budgetary impact statement before promulgating a rule that may result in the expenditure by State, local, and tribal governments, or by the private sector, of $100 million or more in any one year. Upon first implementing the Uniform Guidance, OMB determined that its joint interim final rule will not result in expenditures by State, local, and tribal governments, or by the private sector, of $100 million or more in any one year. USAGM concurs. Therefore, no actions are necessary under the provisions of the Unfunded Mandates Reform Act of 1995, 2 U.S.C. 1532.

d. Regulatory Flexibility Act

The Regulatory Flexibility Act requires an agency issuing a final rule to provide a final regulatory flexibility analysis or to certify that the rule will not have a significant economic impact on a substantial number of small entities. In accordance with the RFA, USAGM certifies that this rule will not have a significant economic impact on a substantial number of small entities, and thus no regulatory flexibility analysis is required under 5 U.S.C. 603.

e. Executive Order 13132 (Federalism Assessment)

Executive Order 13132 limits an agency's ability to promulgate rules that have federalism implications, impose substantial compliance costs on state and local governments, or pre-empt state and local law. This proposed rule will not have sufficient federalism implications to warrant the preparation of a federalism assessment pursuant to Executive Order 13132.

List of Subjects in 2 CFR Part 1900

Accounting, Administrative practice and procedure, Grant programs, Grants administration, Loan programs, Nonprofit organizations, Reporting and recordkeeping requirements.

For the reasons discussed in the preamble, and under the authority of 5 U.S.C. 301 and 2 CFR part 200, the U.S. Agency for Global Media adds chapter XIX to 2 CFR subtitle B, consisting of parts 1900 through 1999, and removes 22 CFR part 518 as follows:

Title 2—Grants and Agreements

Subtitle B—Federal Agency Regulations for Grants and Agreements

CHAPTER XIX—U.S. AGENCY FOR GLOBAL MEDIA

PART 1900—UNIFORM ADMINISTRATIVE REQUIREMENTS, COST PRINCIPLES, AND AUDIT REQUIREMENTS FOR FEDERAL AWARDS

Sec.
1900.1 Adoption of 2 CFR part 200.
1900.2 [Reserved]

Authority: 5 U.S.C. 301; 2 CFR part 200

PART 1900—UNIFORM ADMINISTRATIVE REQUIREMENTS, COST PRINCIPLES, AND AUDIT REQUIREMENTS FOR FEDERAL AWARDS

§ 1900.1 Adoption of 2 CFR Part 200.

The United States Agency for Global Media adopts the Uniform Administrative Requirements, Cost Principles, and Audit Requirements for Federal Awards set forth at 2 CFR part 200. Thus, this part gives regulatory effect to the terms of 2 CFR part 200 (as effective October 1, 2024).

§ 1900.2 [Reserved]

PARTS 1901-1999 [Reserved]

Dated: December 4, 2024.
Amanda Bennett,
Chief Executive Officer, U.S. Agency for Global Media.

[FR Doc. 2024-28864 Filed 12-10-24; 8:45 am]

BILLING CODE 8610-01-P